DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Evaluation of the Project Rehabilitation and Restitution Program

—New—The Rehabilitation and Restitution initiative of SAMHSA's Center for Substance Abuse Treatment seeks to reduce recidivism and increase psychosocial functioning and pro-social lifestyle among substance abusing state correctional prisoners. Hypotheses of the study are that providing intensive, long-term case management services will facilitate a pro-social lifestyle leading to higher rates of sealing or expunging of criminal records and that the prospect of stigma reduction provided by a sealed criminal record will motivate offenders to remain crime and drug free for a least three years after completing judicial supervision.

The project consists of (1) providing technical assistance to develop and implement intensive case management services, and (2) an evaluation of the effectiveness of the intensive case management services in increasing the number of people eligible to have their records sealed. The study is confined to jurisdictions with statutes permitting records to be sealed. Two counties in Ohio involving an urban setting (Cuyahoga county which includes the city of Cleveland) and a rural setting (Clermont county adjacent to Kentucky) were selected based on responses to an RFA. Subjects in each county will be drawn from referrals by parole and probation to Treatment Accountability for Safer Communities (TASC) case management programs in the two counties.

The target population consists of individuals entering parole or probation who are first time nonviolent felons with a history of substance abuse and are eligible to have their records sealed. Technical assistance to participating counties will be provided to (1) develop, an intensive case management treatment model designed to increase the proportion of offenders eligible to have records sealed, and (2) involve the various stake holders, such as case managers, parole officers, district attorney's office, public defender, and judges in the implementation of the case management model. A formative evaluation will provide feedback on the implementation of the program. A systems evaluation will examine the number of services offered to the felons, and changes in attitudes towards sealing records on the part of critical stakeholders, such as district attorney offices, judges and service providers. An outcomes evaluation will examine the effect of the intensive case management model on the eligibility to have records sealed, social, psychological and health status, HIV risk behavior, and the actual proportion of subjects who have their records sealed.

The experimental study consists of two groups of randomly assigned subjects. An intent-to-treat group is scheduled to receive intensive case management consisting of an intensive TASC case management model during the one-year period of supervision followed by an additional three years of less intensive case management services. A control group will receive treatment as usual, consisting of the TASC case management model now in place. The evaluation procedures will consist of a baseline interview and follow-up interviews over a 4-year period that tracks outcomes to the point at which subjects are eligible for sealing of records. Follow-up interviews and file studies will test for a wide array of possible effects, including recidivism, employment, education, drug use, family relationships, support of children, mental and physical health, HIV/AIDS risk factors, assumption of personal responsibility and life adjustment factors.

The evaluation will involve 880 projected participants over a four-year period. Evaluation interviews will take place at baseline, 6 months, 12 months, and 42 months. Each interview will last 1½ to 2 hours depending on the memory and speed of the respondents. The interview goal is a minimum 80% completion rate. Interview data will be supplemented by a file study of arrest records and the number of criminal records expunged. Additionally, two focus groups of clients in the intent to treat group will be conducted in each county at 3, 6, 12, 18, 24, and 30 months to provide feedback on client perceptions of the case management programs. One group at each site will consist of clients in compliance with the program and one group will consist of clients not in compliance. Groups will consist of 8 to 10 participants chosen at random from the compliant and noncompliant clients. Additional file study data will be gathered on the number of case management sessions and the number and frequency of other interventions in the intent-to-treat and control groups.

Data collection | Number of respondents | Responses/ respondent | Hours per response | Total hr. burden
Baseline Interview | 880 | 1 | 1.37 | 1,206
Follow-up Battery: 6-, 12-, & 42-month | 880 | 3 | 1.85 | 4,884
Client Focus Groups: 3-, 6-, 12-, 18-, 24- & 30-month | 120 | 1 | 1.50 | 180
File Data Collection (Staff Time) MCSIS, Ohio DRC, TASC | 3 | 3 | 2.00 | 18
Quality Assurance (Treatment Program Staff) Multimodality Quality Assurance (MQA) | 6 | 1 | .75 | 5
Stake Holders:
Workshops/meetings evaluation form | 18 | 10 | .08 | 14
Attitudes Towards Sealing Records | 18 | 3 | .08 | 4
Stakeholders Focus Group | 12 | 1 | 1.50 | 18
Total Burden | 925 |  |  | 6,329
4-Year Annual Average | 925 |  |  | 1,582

Send comments to Nancy Pearce, SAMHSA Reports Clearance Officer, Room 16-105, Parklawn Building, 5600 Fishers Lane, Rockville, MD 20857. Written comments should be received within 60 days of this notice.

Dated: January 6, 2003.
Richard Kopanda,
Executive Officer, SAMHSA.

[FR Doc. 03-490 Filed 1-9-03; 8:45 am]

BILLING CODE 4162-20-P